DEPARTMENT OF COMMERCE

International Trade Administration

[C-570-187]

Overhead Door Counterbalance Torsion Springs From the People's Republic of China: Final Affirmative Countervailing Duty Determination and Final Affirmative Critical Circumstances Determination in Part

AGENCY: Enforcement and Compliance, International Trade Administration, Department of Commerce.

SUMMARY: The U.S. Department of Commerce (Commerce) determines that countervailable subsidies are being provided to producers and exporters of overhead door counterbalance torsion springs (overhead door springs) from the People's Republic of China (China). The period of investigation (POI) is January 1, 2023, through December 31, 2023.

DATES: Applicable August 15, 2025.

FOR FURTHER INFORMATION CONTACT: Laurel Smalley, AD/CVD Operations, Office VIII, Enforcement and Compliance, International Trade Administration, U.S. Department of Commerce, 1401 Constitution Avenue NW, Washington, DC 20230; telephone: (202) 482-3456.

SUPPLEMENTARY INFORMATION:

Background

On April 3, 2025, Commerce published the Preliminary Determination in the Federal Register and invited interested parties to comment.¹ On July 16, 2025, Commerce published the Preliminary Critical Circumstances Determination in the Federal Register.² For a complete description of the events that followed the Preliminary Determination and Preliminary Critical Circumstances Determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Overhead Door Counterbalance Torsion Springs From the People's Republic of China: Preliminary Affirmative Countervailing Duty Determination and Alignment of Final Determination With Final Antidumping Duty Determination, 90 FR 14630, 14631 (April 3, 2025) (Preliminary Determination), and accompanying Preliminary Decision Memorandum (PDM).

² See Overhead Door Counterbalance Torsion Springs from the People's Republic of China: Preliminary Affirmative Determination of Critical Circumstances, in Part, in the Countervailing Duty Investigation, 90 FR 31960 (July 16, 2025) (Preliminary Critical Circumstances Determination).

³ See Memorandum, “Issues and Decision Memorandum for the Final Affirmative Determination of the Countervailing Duty Investigation of Overhead Door Counterbalance Torsion Springs from the People's Republic of China,” dated concurrently with, and hereby adopted by, this notice (Issues and Decision Memorandum).

Scope of the Investigation

The product covered by this investigation is overhead door springs from China. For a complete description of the scope of this investigation, see Appendix I.

Scope Comments

In the Preliminary Scope Memorandum, we set aside a period of time for parties to raise issues regarding product coverage (i.e., scope) in scope-specific case briefs or other written comments on scope issues.⁴ No interested parties commented. Therefore, we made no changes to the scope of the investigation. See Appendix I.

⁴ See Memorandum, “Preliminary Scope Decision Memorandum,” dated March 28, 2025 (Preliminary Scope Memorandum).

Verification

Commerce did not conduct verification of the respondents under examination in this investigation, because the mandatory respondents either did not provide information requested by Commerce (i.e., Foshan Nanhai Xulong Spring Factory (Xulong Spring)) or withdrew from the investigation (i.e., Tianjin Wangxia Spring Co., Ltd. (Tianjin Wangxia)). Accordingly, because each of the examined respondents is uncooperative in this investigation, Commerce could not conduct verification. See Issues and Decision Memorandum.

Analysis of Comments Received

The subsidy programs under investigation and the issues raised in the case brief filed by an interested party in this investigation are discussed in the Issues and Decision Memorandum. For a list of the topics raised to which we responded in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.⁵ For a full description of the methodology underlying our final determination, see the Issues and Decision Memorandum.

⁵ See sections 771(5)(B) and (D) of the Act regarding financial contribution; section 771(5)(E) of the Act regarding benefit; and section 771(5A) of the Act regarding specificity.

In making this final determination, Commerce relied, in part, on facts otherwise available, including with an adverse inference, pursuant to sections 776(a) and (b) of the Act. For a full discussion of our application of adverse facts available (AFA), see the “Use of Facts Otherwise Available and Application of Adverse Inferences” section in the Issues and Decision Memorandum.

Final Affirmative Determination of Critical Circumstances, in Part

Commerce preliminarily determined, in accordance with section 703(e)(1) of the Act and 19 CFR 351.206(c)(1), that critical circumstances existed with respect to imports of overhead door springs produced and/or exported by Xulong Spring, Tianjin Wangxia, and the non-responsive companies,⁶ but that critical circumstances did not exist with respect to all other producers and/or exporters not individually examined.⁷

⁶ Commerce did not receive responses to its quantity and value questionnaire from the following companies: (1) Beled Co., Limited/Beled (Shenzhen) Commerce Co Ltd; (2) Jiaxing Taike Springs Co Ltd; (3) Kowloon Metal Spring Factory; (4) Ningbo I Promise Import Export; and (5) Xiamen Globe Truth GT Industries. See Preliminary Determination PDM at 18-19.

⁷ See Preliminary Critical Circumstances Determination.

For this final determination, pursuant to section 705(a)(2) of the Act and 19 CFR 351.206, we are continuing to find that critical circumstances exist for Xulong Spring, Tianjin Wangxia, and the non-responsive companies, and do not exist for all other producers and/or exporters. With respect to finding that critical circumstances exist for Xulong Spring, Tianjin Wangxia, and the non-responsive companies, we relied on AFA, pursuant to sections 776(a) and (b) of the Act. For a full description of the methodology, changes to the Preliminary Critical Circumstances Determination, and results of Commerce's critical circumstances analysis, see the Issues and Decision Memorandum.

Changes Since the Preliminary Determination

Based on Tianjin Wangxia's withdrawal from the investigation and Commerce's subsequent cancellation of verification, for this final determination, we made certain changes to the countervailable subsidy rate calculations for Tianjin Wangxia. Additionally, we made certain changes to the countervailable subsidy rates applicable to Xulong Spring, the non-responsive companies, and for all other producers/exporters. For a discussion of these changes, see the Issues and Decision Memorandum.

All-Others Rate

Sections 703(d) and 705(c)(5)(A) of the Act provide that Commerce shall determine an estimated all-others rate for companies not individually examined. This rate shall be an amount equal to the weighted average of the estimated subsidy rates established for those companies individually examined, excluding any zero and de minimis rates and any rates based entirely under section 776 of the Act.

Pursuant to section 705(c)(5)(A)(ii) of the Act, if the individual estimated countervailable subsidy rates established for all exporters and producers individually examined are zero, de minimis, or determined entirely under section 776, Commerce may use any reasonable method to establish the estimated subsidy rate for all other producers and/or exporters. Commerce in this investigation has determined the subsidy rates for the individually examined respondents under section 776 of the Act. Consequently, as a reasonable method, Commerce is determining the all-others rate based on the rate determined for Xulong Spring and Tianjin Wangxia, the mandatory respondents in this investigation, as determined under section 776 of the Act, as this is the only rate available in this proceeding.⁸ For a full description of the methodology underlying Commerce's analysis, see the Issues and Decision Memorandum.

⁸ See, e.g., Melamine From Germany: Final Affirmative Countervailing Duty Determination, 89 FR 97586 (December 9, 2024).

Final Determination

Commerce determines that the following estimated countervailable subsidy rates exist for the period January 1, 2023, through December 31, 2023:

Company | Subsidy rate (percent ad valorem)
Tianjin Wangxia Spring Co. Ltd.⁹ | * 257.46
Foshan Nanhai Xulong Spring Factory | * 257.46
Beled Co., Ltd./Beled (Shenzhen) Commerce Co., Ltd | * 257.46
Jiaxing Taike Springs Co., Ltd | * 257.46
Kowloon Metal Spring Factory | * 257.46
Ningbo I Promise Import Export | * 257.46
Xiamen Globe Truth (GT) Industries | * 257.46
All Others ¹⁰ | 257.46
* This rate is based on AFA.

Disclosure

⁹ As discussed in the Preliminary Determination, Commerce found the following companies to be cross-owned with Tianjin Wangxia: Tianjin Gangzhen Auto Parts Co., Ltd. and Tianjin OK Garage Door Parts Co., Ltd. See Preliminary Determination PDM at 24-26.

¹⁰ Commerce received responses to its quantity and value questionnaire from the following companies: (1) Chi Hardware Corp. Ltd.; (2) Hangzhou Fuxing Spring Co., Ltd.; (3) Hebei Meirui Metals & Minerals Co., Ltd.; (4) MFG Direct (Ningbo) Limited; (5) Ningbo Well Lift Door Co. Ltd.; (6) Wuxi Jiupie Information Technology Co., Ltd; and (7) Wuxi Kop Door Technology Co. Ltd. See Memorandum, “Respondent Selection,” dated December 17, 2024 at Issue 2.

Commerce intends to disclose its calculations and analysis performed to interested parties in this final determination within five days of any public announcement, or if there is no public announcement, within five days of the date of the publication of this notice in the Federal Register, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise, as described in the scope of the investigation section, entered, or withdrawn from warehouse, for consumption on or after April 3, 2025, the date of publication of the Preliminary Determination in the Federal Register. As a result of the Preliminary Critical Circumstances Determination, Commerce instructed CBP to collect cash deposits and suspend liquidation of entries of subject merchandise covered by the scope of the investigation entered, or withdrawn from warehouse, for consumption on or after January 3, 2025 (90 days prior to the Preliminary Determination) for Xulong Spring, Tianjin Wangxia, and the non-responsive companies for which Commerce preliminarily found that critical circumstances exist.¹¹ In accordance with section 703(d) of the Act, we instructed CBP to discontinue the suspension of liquidation of all entries of subject merchandise entered or withdrawn from warehouse, on or after August 1, 2025, the first day provisional measures were no longer in effect, but to continue the suspension of liquidation of all entries of subject merchandise on or before July 31, 2025.

¹¹ See Preliminary Critical Circumstances Determination.

If the U.S. International Trade Commission (ITC) issues a final affirmative injury determination, we will issue a countervailing duty order, reinstate the suspension of liquidation under section 706(a) of the Act, and require a cash deposit of estimated countervailing duties for such entries of subject merchandise in the amounts indicated above. Pursuant to section 705(c)(2) of the Act, if the ITC determines that material injury, or threat of material injury, does not exist, this proceeding will be terminated, and all estimated duties deposited, or securities posted, as a result of the suspension of liquidation will be refunded or canceled.

ITC Notification

In accordance with section 705(d) of the Act, Commerce will notify the ITC of its final affirmative determination that countervailable subsidies are being provided to producers and/or exporters of overhead door springs from China. Because the final determination is affirmative, in accordance with section 705(b) of the Act, the ITC will determine, within 45 days, whether the domestic industry in the United States is materially injured, or threatened with material injury, by reason of imports of overhead door springs from China. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

Administrative Protective Order

In the event that the ITC issues a final negative injury determination, this notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: August 11, 2025.
Christopher Abbott,
Deputy Assistant Secretary for Policy and Negotiations, performing the non-exclusive functions and duties of the Assistant Secretary for Enforcement and Compliance.

Appendix I

Scope of the Investigation

The merchandise covered by this investigation is helically-wound, overhead door counterbalance torsion steel springs (overhead door counterbalance torsion springs) and any cones, plugs or other similar fittings for mounting and creating torque in the spring (herein collectively referred to as cones) attached to or entered with and invoiced with the subject overhead door counterbalance torsion springs. Overhead door counterbalance torsion springs are helical steel springs with tightly wound coils that store and release mechanical energy by winding and unwinding along the spring's axis by an angle, using torque to create a lifting force in the counterbalance assembly typically used to raise and lower overhead doors, including garage doors, industrial rolling doors, warehouse doors, trailer doors, and other overhead doors, gates, grates, or similar devices. The merchandise covered by this investigation covers all overhead door counterbalance torsion springs with a coil inside diameter of 15.8 millimeters (mm) or more but not exceeding 304.8 mm (measured across the diameter from inner edge to inner edge); a wire diameter of 2.5 mm to 20.4 mm; a length of 127 mm or more; and regardless of the following characteristics:

• wire type (including, but not limited to, oil-tempered wire, hard-drawn wire, music wire, galvanized or other coated wire);

• wire cross-sectional shape (e.g., round, square, or other shapes);

• coating (e.g., uncoated, oil- or water-based coatings, lubricant coatings, zinc, aluminum, zinc-aluminum, paint or plastic coating, etc.);

• winding orientation (left-hand or right-hand wind direction);

• end type (including, but not limited to, looped, double looped, clipped, long length, mini warehouse, Barcol, Crawford, Kinnear, Wagner, rolling steel or barrel ends); and

• whether the overhead door counterbalance torsion springs are fitted with hardware, including but not limited to fasteners, clips, and cones (winding or stationary cones).

For purposes of the diameters referenced above, where the nominal and actual measurements vary, a product is within the scope if application of either the nominal or actual measurement would place it within the scope based on the definitions set forth above.

The steel torsion springs included in the scope of this investigation are produced from steel in which: (1) iron predominates, by weight, over each of the other contained elements; and (2) the carbon content is 2 percent or less, by weight.

Subject merchandise includes cones attached to or entered with and invoiced with the subject overhead door counterbalance torsion springs. Such cones, which are typically cast aluminum, aluminum alloy or steel (but may be made from other materials) are made to mount the subject springs to the overhead door counterbalance system and create and maintain torque in the spring. Cones or other similar fittings that are not attached to the subject springs or are not entered with and invoiced with the subject springs are not included within the scope unless entered as parts of kits as described below.

Subject merchandise also includes all subject overhead door counterbalance torsion springs and cones or other similar fittings for mounting and tensioning the spring entered as a part of overhead door kits, overhead door mounting or assembly kits, or as a part of a spring-operated motor assembly or as a part of a spring winder assembly kit for torsion springs. When counterbalance torsion springs and cones or other similar fittings for attaching and tensioning the torsion spring are entered as a part of such kits, only the counterbalance spring and cones or other similar fittings in the kit are within scope.

Subject merchandise also includes overhead door counterbalance torsion springs that have been further processed in a third country, including but not limited to cutting to length, attachment of hardware, cones or end-fittings, inclusion in garage door kits or garage door mounting or assembly kits, or any other processing that would not remove the merchandise from the scope of this investigation if performed in the country of manufacture of the in-scope overhead door counterbalance torsion springs.

All products that meet the written physical description are within the scope of this investigation unless specifically excluded. The following products are specifically excluded from the scope of this investigation:

• leaf springs (slender arc-shaped length of spring steel of a rectangular cross-section);

• disc springs (conical springs consisting of a convex disc with the outer edge working against the center of the disc);

• extension springs (close-wound round helical wire springs that store and release energy by resisting the external pulling forces applied to the spring's ends in the direction of its length);

• compression springs (helical coiled springs with open wound active coils (such open winding is also known as pitch) that are designed to compress under load or force); and

• spiral springs (torsion springs wound as concentric spirals such as a clock spring or mainspring).

The products subject to this investigation are currently classified under Harmonized Tariff Schedule of the United States (HTSUS) subheadings 7320.20.5020, 7320.20.5045, and 7320.20.5060. They may also be classified under HTSUS subheading 8412.90.9085 if entered as parts of spring-operated motors. They may also be classified in HTSUS subheading 8412.80.1000 (spring-operated motors) if entered as part of a spring counterweight assembly for an overhead door. They may also be classified in HTSUS subheading 7308.90.9590, a basket category that includes metal garage doors entered with mounting accessories or assemblies.

Although the HTSUS subheadings are provided for convenience and customs purposes, the written description of the scope of this investigation is dispositive.

Appendix II

List of Topics Discussed in the Issues and Decision Memorandum

I. Summary

II. Background

III. Final Determination of Critical Circumstances

IV. Subsidies Valuation Information

V. Use of Facts Otherwise Available and Application of Adverse Inferences

VI. Analysis of Programs

VII. Discussion of Comments

Comment 1: Whether To Apply Total AFA to Tianjin Wangxia

Comment 2: Whether To Apply a Total AFA Subsidy Rate Starting From the Date of the Preliminary Determination

Comment 3: Whether To Rely on Ship Manifest Data Rather Than Trade Data Monitor Import Statistics for the Final Critical Circumstances Determination

VIII. Recommendation

[FR Doc. 2025-15525 Filed 8-14-25; 8:45 am]

BILLING CODE 3510-DS-P